FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
TRANSACTIONS GRANTED EARLY TERMINATION—02/04/2002
20020319 | Cumulus Media Inc | DBBC, L.L.C | Mr. Juliet Broadcasting, Inc.
|  |  | Phoenix Broadcasting Inc.
20020338 | Deutsche Bank AG | Zurich Financial Services | Zurich Scudder Investments, Inc.
20020373 | Stilwell Financial Inc | The Prudential Insurance Company of America | Enhanced investment Technologies, Inc.
20020378 | Caterpillar, Inc | FCC Equipment Financing, Inc | FCC Equipment Financing, Inc.
20020394 | Advance Voting Trust | PRIMEDIA Inc | PRIMEDIA Magazine Finance, Inc.
|  |  | PRIMEDIA Magazines Inc.
|  |  | PRIMEDIANet Inc.
TRANSACTIONS GRANTED EARLY TERMINATION—02/05/2002
20020322 | General Electric Company | Frederick B. Sontag | Unison Industries, Inc.
20020326 | Sobel N.V | E. ON AG | SKW Gelatin & Specialties Manufacturing, LLC.
|  |  | SKW Gelatin & Specialties Sales, LLC.
TRANSACTIONS GRANTED EARLY TERMINATION—02/11/2002
20020381 | Henkel KFaA | Ecolab Inc. | Ecolab Inc
20020405 | Kao Corporation | James A. Mazzotta | KMS Research, Inc.
20020406 | Pharmaceutical Product Development, Inc | Dr. Evan A. Stein | Medical Research Laboratories International, Inc.
20020407 | Dr. Evan A. Stein | Pharmaceutical Product Development, Inc | Pharmaceutical Product Development, Inc.
20020413 | Forstmann Little & Co. Equity Partnership VII, L.P | XO Communications, Inc | XO Communications, Inc.
20020414 | Forstmann Little & Co. Sub. Debt & Equity Mgmt Buyout VIII | XO Communications, Inc | XO Communications, Inc.
20020415 | Carso Global Telecom, S.A. de C.V | XO Communications, Inc | XO Communications, Inc.
20020421 | Providence Equity Partners IV L.P | Citigroup Inc | F&W Publications, Inc.
TRANSACTIONS GRANTED EARLY TERMINATION—02/13/2002
20020408 | Norsk Hydro ASA | E. ON AG | VAW aluminum AG.
20020412 | WPS Resources Corporation | CH Energy Group, Inc | CH Resources, Inc.
20020422 | Timothy T. Mueller & Diane P. Mueller | Oak Hill Capital Partners, L.P | Steamboat Ski & Resort Corporation.
TRANSACTIONS GRANTED EARLY TERMINATION—02/15/2002
20020418 | Greater Bay Bancorp | Alburger, Basso, de Grosz Insurance Services, Inc | Alburger, Basso, de Grosz Insurance Services, Inc.

FOR FURTHER INFORMATION CONTACT: Sandra M. Peay or Chandra L. Kennedy, Contact Representatives, Federal Trade Commission, Premerger Notification Office, Bureau of Competition, Room 303, Washington, DC 20580, (202) 326-3100.

By Direction of the Commission.
Donald S. Clark,
Secretary.

[FR Doc. 02-4614 Filed 2-26-02; 8:45 am]

BILLING CODE 6750-01-M